NATIONAL ARCHIVES AND RECORDS ADMINISTRATION

[NARA-2022-010]

Agency Information Collection Activities: Proposed Collection; Comment Request

AGENCY: National Archives and Records Administration (NARA).

ACTION: Notice of proposed extension request.

SUMMARY: We are proposing to request an extension from the Office of Management and Budget (OMB) of three currently approved information collections. People use the first information collection to request permission to film, photograph, or videotape at a NARA facility for news purposes. People use the second and third information collections to request permission to use NARA facilities for events in the Washington, DC, area, at a Federal records center, or at a Presidential library. Previously, we have handled each of these last two items as separate information collections, but we have recently revised the underlying regulation and the processes for requesting use of different kinds of NARA facilities, so we are proposing to combine these two into one ICR. All three collections are based on requirements in the same regulation. We invite you to comment on these proposed information collections pursuant to the Paperwork Reduction Act of 1995.

DATES: We must receive written comments on or before January 21, 2022.

ADDRESSES: Send comments to Paperwork Reduction Act Comments (MP), Room 4100; National Archives and Records Administration; 8601 Adelphi Road; College Park, MD 20740-6001, or email them to tamee.fechhelm@nara.gov.

FOR FURTHER INFORMATION CONTACT: Tamee Fechhelm, Paperwork Reduction Act Officer, by email at tamee.fechhelm@nara.gov or by telephone at 301.837.1694 with requests for additional information or copies of the proposed information collection and supporting statement.

SUPPLEMENTARY INFORMATION: Pursuant to the Paperwork Reduction Act of 1995 (Public Law 104-13), we invite the public and other Federal agencies to comment on proposed information collections. If you have comments or suggestions, they should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether the collection affects small businesses.

We will summarize any comments you submit and include the summary in our request for OMB approval. All comments will become a matter of public record.

In this notice, we solicit comments concerning the following information collections, all of which are prescribed by regulation in 36 CFR 1280:

1. Title: Request to film, photograph, or videotape at a NARA facility for news purposes.

OMB number: 3095-0040.

Agency form number: None.

Type of review: Regular.

Affected public: Business or other for-profit, not-for-profit institutions.

Estimated number of respondents: 350.

Estimated time per response: 10 minutes.

Frequency of response: On occasion.

Estimated total annual burden hours: 58.

Abstract: The information collection is prescribed by 36 CFR 1280.48. The collection is prepared by organizations that wish to film, photograph, or videotape on NARA property for news purposes. We need the information to determine if the request complies with NARA regulations, to ensure protection of archival holdings, and to schedule the filming appointment.

2. Title: Request to use NARA facilities in the Washington, DC, area, public spaces at Federal records centers, or Presidential library and grounds, for events.

OMB number: 3095-0043.

Agency form number: NA Form 16011 (Application and permit for use of space in Presidential library and grounds).

Type of review: Regular.

Affected public: Not-for-profit institutions, individuals or households, business or other for-profit, private organizations, Federal Government.

Estimated number of respondents: 300 for facilities in the Washington, DC, area and Federal records centers; 600 for Presidential library facilities and grounds.

Estimated time per response: 30 minutes for facilities in the Washington, DC, area and Federal records centers; 20 minutes for Presidential library facilities and grounds.

Frequency of response: On occasion.

Estimated total annual burden hours: 150 hours for facilities in the Washington, DC, area and Federal records centers; 200 hours for Presidential library facilities and grounds.

Abstract: The information collection is prescribed by 36 CFR 1280.64. Requesters submit the information when they wish to use NARA public areas in the Washington, DC, area or public spaces at Federal records centers for an event, or they submit the application to request the use of space in a Presidential library for a privately sponsored activity. We use the information to determine whether or not we can accommodate the request and date, whether the requested use meets the criteria in 36 CFR 1280, and to ensure that the proposed event complies with NARA regulations.

Swarnali Haldar,
Executive for Information Services/CIO.

[FR Doc. 2021-25362 Filed 11-19-21; 8:45 am]

BILLING CODE 7515-01-P